DEPARTMENT OF THE INTERIOR

National Park Service

Plans of Operations and Environmental Assessments for Continuing Operations for Chesapeake Operating, Inc., and Pantera Energy Company, Lake Meredith National Recreation Area, Texas

AGENCY: National Park Service, Department of the Interior.

ACTION: Notice of Availability of Plans of Operations and Environmental Assessments for a 30-day Public Review at Lake Meredith National Recreation Area.

SUMMARY: Notice is hereby given in accordance with Section 9.52(b) of Title 36 of the Code of Federal Regulations, Part 9, Subpart B, of a Plan of Operations submitted by Chesapeake Operating, Inc., for continuing operations of the J.T. Sneed 103, H.I. Lea 101, and H.I. Lea R-1 natural gas wells and a Plan of Operations submitted by Pantera Energy Company for continuing operations of the Barnes State #1 and the Barnes State #1R natural gas wells in Lake Meredith National Recreation Area, Moore and Potter Counties, Texas. Additionally, the NPS has prepared Environmental Assessments for both of these proposals.

DATES: The above documents are available for public review and comment through September 18, 2006.

ADDRESSES: The Plans of Operations and Environmental Assessments are available for public review and comment in the Office of the Superintendent, Karren Brown, Lake Meredith National Recreation Area, 419 E. Broadway, Fritch, Texas. The documents are also available at the Planning, Environment and Public Comment Web site at http://parkplanning.gov.

FOR FURTHER INFORMATION CONTACT: Ms. Arlene Wimer, Environmental Protection Specialist, Division of Resource Management, Lake Meredith National Recreation Area, P.O. Box 1460, Fritch, Texas 79036, Telephone: 806-865-3874, ext. 35, e-mail at Arlene_Wimer@nps.gov.

SUPPLEMENTARY INFORMATION: If you wish to comment on the environmental assessment, you may mail comments to the name and address above or post comments online at http://parkplanning.nps.gov/. This environmental assessment will be on public review for 30 days. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: July 17, 2006.
Karren Brown,
Superintendent, Lake Meredith National Recreation Area.

[FR Doc. E6-13685 Filed 8-17-06; 8:45 am]

BILLING CODE 4310-3A-P